DEPARTMENT OF COMMERCE

Foreign-Trade Zones Board

[Order No. 1521]

Application for Subzone Status Not Approved

Sharp Electronics Corporation, Huntington Beach, California

Pursuant to its authority under the Foreign-Trade Zones Act of June 18, 1934, as amended (19 U.S.C. 81a-81u), the Foreign-Trade Zones Board (the Board) adopts the following Order:

Whereas, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Board of Harbor Commissioners of the City of Los Angeles, grantee of FTZ 202, has made application to the Board for authority to establish special-purpose subzone status at the office and consumer electronics/home products/solar panels warehousing and distribution facility of Sharp Electronics Corporation, located in Huntington Beach, California (FTZ Docket 8-2006, filed 02-27-06);

Whereas, notice inviting public comment has been given in the Federal Register (71 FR 12676, 3/13/2006); and,

Whereas, the Board adopts the findings and recommendations of the examiner's report, and finds that the requirements of the FTZ Act and the Board's regulations have not been satisfied because the applicant did not provide information requested by the Board;

Now, therefore, the Board hereby does not approve the application for subzone status at the office and consumer electronics/home products/solar panels warehousing and distribution facility of Sharp Electronics Corporation, located in Huntington Beach, California.

Signed at Washington, DC, this 23rd day of August 2007.

David M. Spooner,
Assistant Secretary of Commerce for Import Administration, Alternate Chairman Foreign-Trade Zones Board.

Attest:

Andrew McGilvray,
Executive Secretary.

[FR Doc. E7-17328 Filed 8-30-07; 8:45 am]

BILLING CODE 3510-DS-S